DEPARTMENT OF COMMERCE

National Oceanic and Atmospheric Administration

Proposed Information Collection; Comment Request; Progress Report on Cooperative Halibut Prohibited Species Catch Minimization

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 3, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for revision of an existing information collection.

During its February 2014 meeting, the North Pacific Fisheries Management Council (Council) requested that Bering Sea and Aleutian Islands Management Area (BSAI) groundfish sectors (American Fisheries Act (AFA) Catcher/processor, AFA Catcher Vessel, Amendment 80, Freezer Longline Cooperative, and Community Development Quota) report (at the June Council meeting) on the progress of voluntary, non-regulatory actions implemented and recorded in their cooperative and/or inter-cooperative agreements to minimize halibut Prohibited Species Catch (PSC) through halibut avoidance, individual accountability, and use of incentives.

During its June 2014 meeting, the Council requested additional voluntary, non-regulatory information regarding the use of halibut PSC and halibut discards in the directed halibut fishery from these same five groundfish fishing sectors on actions taken to reduce halibut mortality and to report the effectiveness of those actions in absolute reductions in halibut mortality. These reports are to be provided to the Council at the February 2015 Council meeting.

II. Method of Collection

Respondents have a choice of either electronic or paper forms. Methods of submittal include email of electronic forms, and mail and facsimile transmission of paper forms.

III. Data

OMB Control Number: 0648-0697.

Form Number: None.

Type of Review: Regular submission (revision of an existing information collection).

Affected Public: Business or other for-profit organizations.

Estimated Number of Respondents: 5.

Estimated Time per Response: 8 hours.

Estimated Total Annual Burden Hours: 40.

Estimated Total Annual Cost to Public: $7 in recordkeeping/reporting costs.

IV. Request for Comments

Comments are invited on: (a) Whether the proposed collection of information is necessary for the proper performance of the functions of the agency, including whether the information shall have practical utility; (b) the accuracy of the agency's estimate of the burden (including hours and cost) of the proposed collection of information;

(c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 30, 2014.
Gwellnar Banks,
Management Analyst, Office of the Chief Information Officer.

[FR Doc. 2014-18301 Filed 8-1-14; 8:45 am]

BILLING CODE 3510-22-P